DEPARTMENT OF THE TREASURY

Submission for OMB Review; Comment Request

November 19, 2012.

The Department of the Treasury will submit the following information collection request to the Office of Management and Budget (OMB) for review and clearance in accordance with the Paperwork Reduction Act of 1995, Public Law 104-13, on or after the date of publication of this notice.

DATES: Comments should be received on or before December 24, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Financial Management Service (FMS)

OMB Number: 1510-0056.

Type of Review: Extension without change of a currently approved collection.

Title: ACH Vendor/Miscellaneous Payment Enrollment Form.

Form: SF-3881.

Abstract: Payment data will be collected from vendors doing business with the Federal Government. The Treasury Department, Financial Management Service, will use the information to electronically transmit payments to vendor's financial institutions.

Affected Public: Private Sector: Businesses or other for-profits, Not-for-profit institutions.

Estimated Total Burden Hours: 17,500.

Dawn D. Wolfgang,
Treasury PRA Clearance Officer.

[FR Doc. 2012-28423 Filed 11-21-12; 8:45 am]

BILLING CODE 4810-35-P